DEPARTMENT OF HEALTH AND HUMAN SERVICES

National Institutes of Health

National Cancer Institute; Amended Notice of Meeting

Notice is hereby given of a change in the meeting of the National Cancer Institute Special Emphasis Panel, April 16, 4:00 p.m. to April 17, 2020, 5:00 p.m., Bethesda North Marriott Hotel & Conference Hotel, 5701 Marinelli Road, Rockville, MD, 20850 which was published in the Federal Register on January 30, 2020, 85 FR 5456.

This meeting notice is amended to change the meeting dates and start and end times. The meeting will now be held on April 15, 2020, 3:00 p.m. to April 16, 2020, 6:00 p.m. The meeting is closed to the public.

Dated: February 3, 2020.
Melanie J. Pantoja,
Program Analyst, Office of Federal Advisory Committee Policy.

[FR Doc. 2020-02402 Filed 2-6-20; 8:45 am]

BILLING CODE 4140-01-P